DEPARTMENT OF TRANSPORTATION

National Highway Traffic Safety Administration

[Docket No. NHTSA-2013-0091]

National Emergency Medical Services Advisory Council (NEMSAC); Notice of Federal Advisory Committee Meeting

AGENCY: National Highway Traffic Safety Administration (NHTSA), U.S. Department of Transportation (DOT).

ACTION: Meeting Notice—National Emergency Medical Services Advisory Council.

SUMMARY: The NHTSA announces a meeting of NEMSAC to be held in the Metropolitan Washington, DC, area. This notice announces the date, time, and location of the meeting, which will be open to the public, as well as opportunities for public input to the NEMSAC. The purpose of NEMSAC, a nationally recognized council of emergency medical services representatives and consumers, is to advise and consult with DOT and the Federal Interagency Committee on EMS (FICEMS) on matters relating to emergency medical services (EMS).

DATES: The meeting will be held on September 5, 2013, from 8 a.m. to 5:30 p.m. EDT, and on September 6, 2013, from 8 a.m. to 12 p.m. EDT. A public comment period will take place on September 5, 2013, between 3 p.m. and 3:30 p.m. EDT and September 6, 2013, between 10 a.m. and 10:15 a.m. EDT. Written comments from the public must be received no later than September 3, 2013.

ADDRESSES: The meeting will be held at the Performance Institute on the third floor of 901 New York Avenue NW., Washington, DC 20001.

FOR FURTHER INFORMATION CONTACT: Drew Dawson, Director, U.S. Department of Transportation, Office of Emergency Medical Services, 1200 New Jersey Avenue SE., NTI-140, Washington, DC 20590, telephone 202-366-9966; email Drew.Dawson@dot.gov.

SUPPLEMENTARY INFORMATION: Notice of this meeting is given under the Federal Advisory Committee Act, Public Law 92-463, as amended (5 U.S.C. App.). The NEMSAC is authorized under Section 31108 of the Moving Ahead with Progress in the 21st Century Act of 2012. The NEMSAC will meet on Thursday and Friday, September 5-6, 2013, at the Performance Institute on the third floor of 901 New York Avenue NW., Washington, DC 20001.

Tentative Agenda of National EMS Advisory Council Meeting, September 5-6, 2013

The tentative agenda includes the following:

Thursday, September 5, 2013 (8 a.m. to 5:30 p.m. EDT)

(1) Opening Remarks

(2) Disclosure of Conflicts of Interests by Members

(3) Reports from the Departments of Transportation, Homeland Security, and Health & Human Services

(4) Presentation and discussion on draft EMS Workforce Guidelines and EMS responses to active shooter and improvised explosive device events

(5) Presentation and discussion on NHTSA's Emerging Issues White Papers

a. Pre-Hospital EMS as a Public Good and Essential Service

b. Research in Prehospital Care: Models for Success

c. Emerging Digital Technologies for EMS and 911 Systems

d. Efficacy of Prehospital Application of Tourniquets and Hemostatic Dressings to Control Traumatic External Hemorrhage

(6) Presentation, Discussion and Possible Adoption of Reports and Recommendations from the following NEMSAC Workgroups:

a. Patient Protection and Affordable Care Act

b. Revision of the EMS Education Agenda for the Future

c. EMS Agenda for the Future

d. Improving Internal NEMSAC Processes

e. Safety

(7) Other Business of the Council

(8) Public Comment Period (3 p.m. to 3:30 p.m. EDT)

(9) Workgroup Breakout Sessions (3:30 p.m.-5:30 p.m. EDT)

Friday, September 6, 2013 (8 a.m. to 12 p.m. EDT)

(1) Unfinished Business/Continued Discussion from Previous Day

(2) Public Comment Period (10 a.m. to 10:15 a.m. EDT)

(3) Next Steps and Adjourn

On Thursday, September 5, 2013, from 3:30 p.m. to 5:30 p.m. EDT, the NEMSAC workgroups will meet in breakout sessions at the same location. These sessions are open for public attendance, but their agendas do not accommodate public comment.

Registration Information: This meeting will be open to the public; however, pre-registration is requested. Individuals wishing to attend must register online at http://events.signup4.com/NEMSACSeptember2013 no later than September 3, 2013. There will not be a teleconference option for this meeting.

Public Comment: Members of the public are encouraged to comment directly to the NEMSAC. Those who wish to make comments on Thursday, September 5 2013, between 3 p.m. and 3:30 p.m. EDT or Friday, September 6, 2013, between 10 a.m. and 10:15 a.m. EDT are requested to register in advance. In order to allow as many people as possible to speak, speakers are requested to limit their remarks to 5 minutes. Written comments from members of the public will be distributed to NEMSAC members at the meeting and should reach the NHTSA Office of EMS no later than September 3, 2013. Written comments may be submitted by either one of the following methods: (1) you may submit comments by email: nemsac@dot.gov or (2) you may submit comments by fax: (202) 366-7149.

A final agenda as well as meeting materials will be available to the public online through www.EMS.gov on or before August 30, 2013.

Issued on: August 8, 2013.
Michael L. Brown,
Acting Associate Administrator for Research and Program Development.

[FR Doc. 2013-19615 Filed 8-12-13; 8:45 am]

BILLING CODE 4910-59-P